ENVIRONMENTAL PROTECTION AGENCY

[EPA-HQ-OAR-2021-0329; FRL-12690-01-OAR]

Agency Information Collection Activities; Proposed Information Collection Request; Comment Request; Certification and Compliance Requirements for Nonroad Spark-Ignition Engines (Renewal)

AGENCY: Environmental Protection Agency (EPA).

ACTION: Notice.

SUMMARY: The Environmental Protection Agency (EPA) is planning to submit an information collection request (ICR), “Certification and Compliance Requirements for Nonroad Spark-Ignition Engines (Renewal)”, EPA ICR Number 1695.15, OMB Control Number 2060-0338 to the Office of Management and Budget (OMB) for review and approval in accordance with the Paperwork Reduction Act. Before doing so, EPA is soliciting public comments on specific aspects of the proposed information collection request as described below. This is a proposed extension of the Nonroad Spark-Ignition Engines ICR, which is currently approved through December 31, 2025. This notice allows for 60 days for public comments.

DATES: Comments must be submitted on or before July 7, 2025.

ADDRESSES: Submit your comments, referencing the Docket ID No. EPA-HQ-OAR-2021-0329, to the EPA: online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Julian Davis, Attorney Adviser, Compliance Division, Office of Transportation and Air Quality, U.S. Environmental Protection Agency, 2000 Traverwood, Ann Arbor, Michigan 48105; telephone number: 734-214-4029; fax number 734-214-4869; email address: davis.julian@epa.gov.

SUPPLEMENTARY INFORMATION: This is a proposed extension of the ICR, which is currently approved through December 31, 2025. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: This information collection is requested under the authority of Title II of the Clean Air Act (42 U.S.C. 7521 et seq.) Under this Title, EPA is charged with issuing certificates of conformity for those engines which comply with applicable emission standards. Such a certificate must be issued before engines may be legally introduced into commerce. To apply for a certificate of conformity, manufacturers are required to submit descriptions of their planned production line, including detailed descriptions of the emission control system, and test data. This information is organized by “engine family” groups expected to have similar emission characteristics. The emission values achieved during certification testing may also be used in the Averaging, Banking, and Trading (ABT) Program. The program allows manufacturers to bank credits for engine families that emit below the standard and use the credits for families that emit above the standard. They may also trade banked credits with other manufacturers. Participation in the ABT program is voluntary. Different categories of spark-ignition engines may also be required to comply with production-line testing (PLT) and in-use testing. There are also recordkeeping and labeling requirements. This information is collected electronically by the Gasoline Engine Compliance Branch (GECB), Implementation, Analysis and Compliance Division, Office of Transportation and Air Quality (OTAQ), Office of Air and Radiation of the U.S. Environmental Protection Agency. GECC uses this information to ensure that manufacturers comply with applicable regulations and the Clean Air Act (CAA). It may also be used by the Office of Enforcement and Compliance Assurance (OECA) and the Department of Justice for enforcement purposes. Non-CBI may be disclosed on OTAQ's website or upon request under the Freedom of Information Act (FOIA) to trade associations, environmental groups, and the public. Any information submitted for which a claim of confidentiality is made is safeguarded according to EPA regulations at 40 CFR 2.201 et seq.

Form Numbers

Form name | Form No.
Annual Production Worksheet | 5900-90
Marine SI Production Line Testing Report | 5900-91
Marine SI Averaging, Banking, and Trading Report | 5900-92
Large SI In-Use Testing Report | 5900-93
Marine SI In-Use Testing Report | 5900-93
Large SI Production Line Testing Report | 5900-130
NR Small SI Averaging, Banking, and Trading Report | 5900-131
NR Small SI Production Line Testing Report | 5900-133
HDSI ABT Report | 5900-134
NR Small SI Bond Worksheet | 5900-450
NR Small SI Small Volume Bond Worksheet | 5900-451
Altitude Worksheet | 5900-452
Evaporative Fuel Cap Test Data | 5900-453
Evaporative Fuel Line Test Data | 5900-454
Evaporative Fuel Tank Data Worksheet | 5900-455
Marine and Large SI Diurnal System Data Worksheet | 5900-456
NR Small SI Equipment Worksheet | 5900-457
Marine SI Vessel Worksheet | 5900-458
Marine SI Engine Data Map Sheet | 5900-459
Snowmobile Production Line Testing Report | 5900-460
Snowmobile Certification Template | 5900-463
Rec Vehicle Catalytic Converter Checklist | 5900-464
Snowmobile Averaging, Banking, and Trading Template | 5900-465
Rec Vehicle Fuel Line Test Data Worksheet | 5900-466
Rec Vehicle Fuel Tank Test Data Worksheet | 5900-467
Recreational Vehicle PLT Report Final | 5900-New
HMC_RV_ABT_Template | 5900-New
ATV-UTV checklist | 5900-New
Replacement Engine Exemption Report | 5900-New
AECD Form | 5900-New

Respondents/affected entities: Respondents are manufacturers of nonroad engines within the following North American Industry Classification System (NAICS) code: 33618, 33612, 336999, 336991, 333112, 335312.

Respondent's obligation to respond: The respondent's obligation to respond is voluntary, but respondents who chose not to respond cannot obtain a Certificate of Conformity, and therefore cannot introduce their products into commerce in the U.S.

Estimated number of respondents: 393 (total).

Frequency of response: Yearly for certification, production, ABT, and warranty reports.

Total estimated burden: 1,390 hours (per respondent, per year). Burden is defined at 5 CFR 1320.3(b).

Total estimated cost: $102,388,928.41 (per year), includes $45,650,002.40 annualized capital or operation & maintenance costs.

Changes in Estimates: There is a decrease of 328 hours in the total estimated respondent burden compared with the ICR currently approved by OMB. This decrease is due largely to fewer respondents (37) than the previous ICR and more manufacturers utilizing carrying over data from previous model years to demonstrate compliance with the standards.

Byron Bunker,
Director, Implementation, Analysis and Compliance Division.

[FR Doc. 2025-07763 Filed 5-2-25; 8:45 am]

BILLING CODE 6560-50-P